DEPARTMENT OF THE INTERIOR

National Park Service

Notice of Intent

AGENCY: National Park Service (NPS).

ACTION: Notice of intent to terminate an Environmental Impact Statement for a Proposed Land Exchange Between the National Park Service and the Eastern Band of Cherokee Indians at Great Smoky Mountains National Park and the Blue Ridge Parkway.

FOR FURTHER INFORMATION CONTACT: John Yancy, Associate Regional Director, Natural Resources, 100 Alabama Street, SW., Atlanta, Georgia 30303.

SUMMARY: Pursuant to section 102(2)(c) of the National Environmental Policy Act of 1969, the President's Council on Environmental Quality Regulations (40 CFR 1500-1508), as implemented by Director's Order 12, and Public Law 108-108, Section 138, the National Park Service (NPS) announces the termination of a EIS. The EIS examined a proposed land exchange between the NPS and the Eastern Band of Cherokee Indians (EBCI) in North Carolina.

On November 10, 2003, the President signed into law Public Law 108-108, Section 138 of which constituted the “Eastern Band of Cherokee Indians Land Exchange Act of 2003”. The Act ratified a proposed land exchange between the Eastern Band of Cherokee Indians (218-acre Waterrock Knob) and the National Park Service (143-acre Ravensford) that has been studied extensively by the parties pursuant to the terms of General Agreement number GA-GRSM-01-FY00 since June 14, 2000. Congress declared that the Ravensford tract would be held in trust for the EBCI upon review of title and acceptance of a conveyance to the United States of the Waterrock Knob tract.

The enactment of the “Act” eliminates the need to publish a Final Environmental Impact Statement along with an associated Record of Decision.

SUPPLEMENTARY INFORMATION: The Draft EIS was issued for public review under a Notice of Availability on June 20, 2003 for a period of 60 days. Subsequent to its release. Pub. L. 108-108 was signed to direct the exchange on November 10, 2003.

Dated: February 23, 2004.
Patricia A. Hooks,
Regional Director, Southeast Region.

[FR Doc. 04-11168 Filed 5-17-04; 8:45 am]

BILLING CODE 4310-70-P